DEPARTMENT OF THE INTERIOR

Fish and Wildlife Service

Endangered and Threatened Species Permit Applications

ACTION: Notice of receipt of applications.

SUMMARY: The following applicants have applied for a permit to conduct certain activities with endangered species. This notice is provided pursuant to section 10(a) of the Endangered Species Act of 1973, as amended (16 U.S.C. 1531, et seq.).

Permit No. TE-25131

Applicant: Dr. Lawrence E. Stevens, Flagstaff, Arizona.

Applicant requests authorization for scientific research and recovery purposes to collect in the wild and conduct activities with the Kanab ambersnail (Oxyloma haydeni kanabensis) in Arizona.

Permit No. TE-25594

Applicant: Clay Nelson, Flagstaff, Arizona.

Applicant requests authorization to conduct scientific research for recovery purposes for the Kanab ambersnail (Oxyloma haydeni kanabensis) at Northern Arizona University and Glen Canyon Dam, Coconino County, Arizona.

Permit No. TE-26436

Applicant: George Veni, San Antonio, Texas.

Applicant requests authorization for scientific research and recovery purposes to collect the following endangered or threatened in Texas:

Peck's Cave amphipod (Stygobromus pecki)

Coffin Cave Mold beetle (Batrisodes texanus)

Kretschmarr Cave Mold beetle (Texamaurops reddelli)

Tooth Cave ground beetle (Rhadine persephone)

Tooth Cave Pseudoscorpion (Tartarocreagris texana)

Bee Creek Cave harvestman (Texella reddelli)

Bone Cave harvestman (Texella reyesi)

Tooth Cave spider (Neoleptoneta myopica)

Texas blind salamander (Typhlomolge rathbuni)

Mexican long-nosed bat (Leptonycteris nivalis)

Barton Springs salamander (Eurycea sosorum)

The following species will not be collected but potentially impacted.

San Marcos salamander (Eurycea nana)

Fountain darter (Etheostoma fonticola)

Big Bend gambusia (Gambusia gaigei)

Clear Creek gambusia (Gambusia heterochir)

Pecos gambusia (Gambusia nobilis)

San Marcos gambusia (Gambusia georgei)

Comanche Springs pupfish (Cyprinodon elegans)

Leon Springs pupfish (Cyprinodon bovinus)

Comal Springs dryopid beetle (Stygoparnus comalensis)

Comal Springs riffle beetle (Heterelmis comalensis)

Texas wild rice (Zizania texana)

Permit No. TE-829995

Applicant: Dallas Zoo/Dallas Aquarium, Dallas, Texas.

Applicant requests authorization to monitor the reproductive success of the interior least tern (Sterna antillarum athalassos) in Dallas County, Texas.

Permit No. TE-839505

Applicant: Aaron D. Flesch, Tucson, Arizona.

Applicant requests authorization for recovery purposes to conduct presence/absence surveys for the southwestern willow flycatcher (Empidonax traillii extimus) in Arizona and New Mexico.

Permit No. TE—814933

Applicant: Texas Parks and Wildlife Department, Austin, Texas.

Applicant requests authorization for scientific research and recovery purposes to collect and conduct activities for the Devil's River minnow (Dionda diaboli) in Texas.

Permit No. TE-26700

Applicant: John A. Kugler, Sonoita, Arizona.

Applicant requests authorization for recovery purposes to conduct presence/absence surveys and collect Gila trout (Oncorhynchus gilae) in Santa Cruz, Cochise, Graham, Pima, Maricopa, and Yuma Counties, Arizona.

Permit No. TE-26690

Applicant: Dynamac Corporation, Corvallis, Oregon.

Applicant requests authorization for recovery purposes to conduct presence/absence surveys for the Colorado pikeminnow (Ptychocheilus lucius), humpback chub (Gila cypha), and razorback sucker (Xyrauchen texanus) along the Verde River in Arizona.

Permit No. TE-26711

Applicant: Coconino National Forest, Flagstaff, Arizona.

Applicant requests authorization for recovery purposes to conduct presence/absence surveys for the southwestern willow flycatcher (Empidonax traillii extimus), bald eagle (Haliaeetus leucocephalus), Yuma clapper rail (Rallus longirostris yumanensis), black-footed ferret (Mustela nigripes), Colorado pikeminnow (Ptychocheilus lucius), razorback sucker (Xyrauchen texanus), and Gila topminnow (Poeciliopsis occidentalis occidentalis) in Arizona, Yavapai, and Coconino Counties, Arizona.

DATES: Written comments on these permit applications must be received on or before June 9, 2000.

ADDRESS: Written data or comments should be submitted to the Legal Instruments Examiner, Division of Endangered Species/Permits, Ecological Services, P.O. Box 1306, Albuquerque, New Mexico 87103. Please refer to the respective permit number for each application when submitting comments. All comments received, including names and addresses, will become part of the official administrative record and may be made available to the public.

FOR FURTHER INFORMATION CONTACT: The U.S. Fish and Wildlife Service, Ecological Services, Division of Endangered Species/Permits, P.O. Box 1306, Albuquerque, New Mexico 87103. Please refer to the respective permit number for each application when requesting copies of documents. Documents and other information submitted with these applications are available for review, subject to the requirements of the Privacy Act and Freedom of Information Act, by any party who submits a written request for a copy of such documents within 30 days of the date of publication of this notice, to the address above.

Bryan Arroyo,
Programmatic Assistant Regional Director, Ecological Services, Region 2, Albuquerque, New Mexico.

[FR Doc. 00-11649 Filed 5-9-00; 8:45 am]

BILLING CODE 4310-55-P